DEPARTMENT OF COMMERCE

National Oceanic and Atmospheric Administration

RIN 0648-XD09

Marine Mammals; File Nos. 10045, 532-1822

AGENCY: National Marine Fisheries Service (NMFS), National Oceanic and Atmospheric Administration (NOAA), Commerce.

ACTION: Notice; receipt of application and amendment request.

SUMMARY: Notice is hereby given that Samuel Wasser, University of Washington, Box 351800, Seattle, WA 98195, has applied for a scientific research permit (File No. 10045) and Kenneth Balcomb, Center for Whale Studies, P.O. Box 1577, Friday Harbor, WA 98250, has requested an amendment to scientific research Permit No. 532-1822-02.

DATES: Written, telefaxed, or e-mail comments must be received on or before November 9, 2007.

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Northwest Region, NMFS, 7600 Sand Point Way NE, BIN C15700, Bldg. 1, Seattle, WA 98115-0700; phone (206)526-6150; fax (206)526-6426.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the file number of the application you are commenting on: File No. 10045 or 532-1822.

FOR FURTHER INFORMATION CONTACT: Jaclyn Daly or Jennifer Skidmore, (301)713-2289.

SUPPLEMENTARY INFORMATION: The subject permit and amendment requests are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

Permit No. 10045 would authorize fecal collections from killer whales year round in Puget Sound and the Georgia Basin, WA. The purpose of the research is to investigate the impacts of prey availability, toxins, and vessel traffic on killer whales using hormone fecal analysis. The applicant is requesting to harass 30 southern resident killer whales and a total of 10 transient, offshore, and northern resident killer whales annually. The permit would expire 5 years from date of issuance and would require annual re-authorization.

An amendment to Permit No. 532-1822-02, issued on July 17, 2006, is requested by Mr. Balcomb. The permit currently authorizes the permit holder to conduct aerial and vessel surveys, behavioral observations, photo-ID, and fecal and prey collection on southern resident killer whales (Orcinus orcas). The permit holder is requesting an additional 12 takes, annually, for satellite dart tagging of southern residents in California, Oregon, and Washington. The permit would expire April 14, 2011 and requires annual re-authorization.

Concurrent with the publication of this notice in the Federal Register, NMFS is forwarding copies of these applications to the Marine Mammal Commission and its Committee of Scientific Advisors.

Dated: October 3, 2007.
P. Michael Payne,
Chief, Permits, Conservation and Education Division, Office of Protected Resources, National Marine Fisheries Service.

[FR Doc. E7-19925 Filed 10-9-07; 8:45 am]

BILLING CODE 3510-22-S